DEPARTMENT OF ENERGY

Federal Energy Regulatory Commission

[Project No. 459-226]

Union Electric Company, dba AmerenUE; Notice of Availability of Environmental Assessment

August 8, 2008.

In accordance with the National Environmental Policy Act of 1969 and the Federal Energy Regulatory Commission's (Commission) regulations, 18 CFR part 380 (Order No. 486, 52 FR 47897), the Office of Energy Projects has reviewed an application for non-project use of project lands and waters at the Osage Project (FERC No. 459) and has prepared an Environmental Assessment (EA) for the proposed non-project use. The non-project use of project lands and waters is located near mile marker 31.2+3.3 on the Big Niangua Arm of the Lake of the Ozarks, in Camden County, Missouri. The Osage Project is located in Benton, Camden, Miller, and Morgan counties, Missouri.

In the application, Union Electric Company, dba AmerenUE requests Commission approval to authorize Lake Development LLC to construct 12 boat docks with 384 covered boat slips and 36 personal watercraft slips. The EA contains Commission staff's analysis of the probable environmental impacts of the proposal and concludes that approving the licensee's application, with staff's recommended environmental measures, would not constitute a major federal action significantly affecting the quality of the human environment.

The EA is attached to a Commission order titled “Order Modifying and Approving Non-Project Use of Project Lands and Waters,” which was issued August 7, 2008, and is available for review and reproduction at the Commission's Public Reference Room, located at 888 First Street, NE., Room 2A, Washington, DC 20426. The EA may also be viewed on the Commission's Web site at http://www.ferc.gov using the “elibrary” link. Enter the project number (prefaced by P-) and excluding the last three digits, in the docket number field to access the document. For assistance, contact FERC Online Support at FERCOnlineSupport@ferc.gov or toll-free at (866) 208-3676, or for TTY, contact (202) 502-8659.

Kimberly D. Bose,
Secretary.

.

[FR Doc. E8-18992 Filed 8-15-08; 8:45 am]

BILLING CODE 6717-01-P